NATIONAL TRANSPORTATION SAFETY BOARD

Sunshine Act Meeting

Agenda

Time and Date: 9:30 a.m., Tuesday, November 21, 2006.

Place: NTSB Conference Center, 429 L'Enfant Plaza, SW., Washington, DC 20594.

Status: The one item is open to the public.

Matter to Be Considered: 7845—Highway Accident Report—Motorcoach Collision with the Alexandria Avenue Bridge Overpass, George Washington Memorial Parkway, Alexandria, Virginia, November 14, 2004.

News Media Contact: Terry William: (202) 314-6100.

Individuals requesting specific accommodations should contact Chris Bisett at (202) 314-6305 by Friday, November 17, 2006.

The public may view the meeting via a live or achived Webcast by accessing a link under “News & Events” on the NTSB home page at www.ntsb.gov.

For More Information Contact: Vicky D'Onofrio, (202) 314-6410.

Dated: November 14, 2006.
Vicky D'Onofrio,
Federal Register Liaison Officer.

[FR Doc. 06-9265 Filed 11-14-06; 3:19 pm]

BILLING CODE 7533-01-M